ELECTION ASSISTANCE COMMISSION

Sunshine Act Notice

AGENCY: U.S. Election Assistance Commission.

TIME AND DATE: Thursday, April 14, 2016, 9 a.m.-5 p.m. and Friday, April 15, 2016, 8:10 a.m.-12 p.m. (Executive Board Session: Thursday, April 14, 2016, 7:30 p.m.).

PLACE: The Sheraton Carlsbad Hotel, 5480 Grand Pacific Drive, Carlsbad, CA 92008, Phone: (760) 827-2400.

STATUS: This meeting will be open to the public.

MATTERS TO BE CONSIDERED: The U.S. Election Assistance Commission (EAC) Standards Board will meet to address its responsibilities under the Help America Vote Act of 2002 (HAVA), to present its views on issues in the administration of Federal elections, formulate recommendations to the EAC, and receive updates on EAC activities.

The Standards Board will receive an overview of EAC Agency Operations, and will receive updates on EAC Grants and Audits, EAC Testing and Certification, and EAC's New Web site Rollout. The Board will receive an update on the Status of State Testing and Certification Consortium. The Board will receive an update on the work of EAC's Technical Guidelines Development Committee (TGDC). The Board will discuss and vote on recommendations from the TGDC. The Board will receive briefings from the National Association of Secretaries of State (NASS), the Federal Voting Assistance Program (FVAP), and the United States Postal Service (USPS).

The Standards Board will conduct committee breakout sessions and hear committee reports. The Board will discuss and vote on proposed Bylaws amendments, and will fill vacancies on the Executive Board of the Standards Board. The Executive Board will elect new officers, appoint Standards Board committee members and chairs, and consider other administrative matters.

CONTACT PERSON FOR MORE INFORMATION: Bryan Whitener, Telephone: (301) 563-3961.

Bryan Whitener,
Director of Communications and Clearinghouse, U.S. Election Assistance Commission.

[FR Doc. 2016-07287 Filed 3-28-16; 4:15 pm]

BILLING CODE 6820-KF-P